DEPARTMENT OF AGRICULTURE

Food and Nutrition Service

Agency Information Collection Activities: Proposed Collection; Comment Request—Generic Clearance for Stakeholder Feedback and Surveys as Part of FNS Planning: Regulatory Actions, Semi-Annual Regulatory Agenda, Program Changes, Research Studies, Outreach, Training and/or Development of Guidance

AGENCY: Food and Nutrition Service, USDA.

ACTION: Notice.

SUMMARY: In accordance with the Paperwork Reduction Act of 1995, this notice invites the general public and other public agencies to comment on this proposed information collection. The purpose of this new collection is to collect qualitative and quantitative stakeholder feedback through meetings, focus groups, interviews, other stakeholder interactions and surveys, as well as requests for administrative data, as part of the planning process for FNS regulatory actions, the semi-annual Regulatory Agenda, research studies, outreach, training and the development of guidance.

DATES: Written comments must be received on or before July 7, 2023.

ADDRESSES: Comments are invited on: (1) Whether the proposed collection of information is necessary for the proper performance of the Agency's functions, including whether the information will have practical utility; (2) the accuracy of the Agency's estimate of the proposed information collection burden, including the validity of the methodology and assumptions used; (3) ways to enhance the quality, utility and clarity of the information to be collected; and (4) ways to minimize the burden of the collection of information on those who are to respond, including use of appropriate automated, electronic, mechanical, or other technological collection techniques or other forms of information technology.

Comments may be sent to Jamia Franklin, Information Collection Clearance Officer, and Maureen Lydon, Chief of the Planning and Regulatory Affairs Office, Food and Nutrition Service, U.S. Department of Agriculture, 1320 Braddock Place, 5th floor, Alexandria, VA 22314. Comments may also be sent via email to Jamia.Franklin@usda.gov and Maureen.Lydon@usda.gov. Comments will also be accepted through the Federal eRulemaking Portal. Go to https://www.regulations.gov and follow the online instructions for submitting comments electronically.

All responses to this notice will be summarized and included in the request for Office of Management and Budget (OMB) approval. All comments will become a matter of public record.

FOR FURTHER INFORMATION CONTACT: Requests for additional information or copies of this information collection should be directed to Jamia Franklin at (703) 305-2403 or via email at Jamia.Franklin@usda.gov. You may also reach to Maureen Lydon at Maureen.Lydon@usda.gov.

SUPPLEMENTARY INFORMATION:

Title:

Generic Clearance for Stakeholder Feedback and Surveys as Part of FNS Planning: Regulatory Actions, Semi-annual Regulatory Agenda, Program Changes, Research Studies, Outreach, Training and/or Development of Guidance.

OMB Number: 0584-New.

Expiration Date: Not yet determined. Expiration dates are normally three years from OMB approval of new information collection.

Type of Request: New collection.

Abstract: The proposed information collection provides a means to garner qualitative and quantitative stakeholder feedback, feedback from state, local and/or Tribal agencies and implementers, feedback from program participants, and existing administrative data, in an efficient and timely manner.

This new FNS-wide generic information collection request currently does not exist and would focus on the following:

• Discussion groups, focus groups, stakeholder meetings, interviews and surveys that involve other than routine customer feedback and may involve use of standardized questions such as focus group discussion guides or surveys. These focus groups, meetings, other stakeholder interactions, and surveys would involve stakeholders, program participants, and state, local and/or Tribal agencies who would potentially provide valuable input necessary for planning: (a) research studies, including program evaluations such as impact or process evaluations; (b) regulatory actions; (c) program changes; (d) outreach, promotion activities and/or training for stakeholders and program participants; (e) guidance, technical assistance documents, questions and answers, to be issued by FNS; and/or (f) other necessary program or policy analyses. The surveys would include both regular surveys and pulse-type surveys. The pulse-type surveys differ in that they would provide a real-time and reoccurring snapshot on key issues and give FNS an immediate stream of data to understand current program needs.

• This generic ICR would also encompass the ad-hoc collection of extant, administrative data from state, local and/or Tribal agencies that administer the various FNS programs and/or demonstration projects (including but not limited to the Food Distribution Program on Indian Reservation demonstration projects). These would be data that FNS knows are in existence and that state, local and/or Tribal agencies regularly collect but do not necessarily report to the Federal level. FNS is referring to data that are readily available for a state, local and/or Tribal agency to provide, but that FNS wouldn't collect on a regular basis.

• Information gathered could potentially yield qualitative and/or quantitative information and, when appropriate, may be shared outside the Agency (along with the context and parameters for the subject information collection, and excluding personally identifiable information).

• Data gathered through this collection will be combined with information from many other sources and other inputs to inform program and policy decision-making.

This collection allows for ongoing, two-way collaborative and actionable communications between the Agency and its state, local and/or Tribal partners, program participants, and stakeholders. It also allows feedback to contribute directly to the improvement and planning of research studies, program changes, regulatory activities, guidance, outreach and/or training activities. As individual collections occur under this generic umbrella, consideration will be given to the appropriate data sharing, equity issues and transparency per collection.

Most but not all generic clearances may meet the following conditions:

• The collections are often voluntary;

• The collections are often low burden for respondents (based on considerations of total burden hours, total number of respondents, or burden-hours per respondent);

• Any collection other than administrative data may be targeted to the solicitation of opinions from respondents who have experience with the program or similar programs, or may be impacted by a program in the future;

• Personally identifiable information (PII) is collected only to the extent necessary and is not retained; and

• Information gathered will yield qualitative and/or quantitative information.

As a general matter, information collections do not result in any new system of records containing privacy information and does not ask questions of a sensitive nature, such as sexual behavior and attitudes, religious beliefs, and other matters that are commonly considered private.

A variety of instruments and platforms are used to collect information from respondents. This includes but is not limited to surveys, including pulse surveys not covered elsewhere, interviews, stakeholder meetings, focus groups, discussion groups, and collection of existing data from state, local and/or Tribal agencies via electronic or other means. The information to be collected could focus on a variety of Food and Nutrition Service (FNS) programs, or portions thereof, including but not limited to the National School Lunch Program (NSLP), School Breakfast Program (SBP), Fresh Fruit and Vegetable Program (FFVP), Summer Food Service Program (SFSP), Child and Adult Care Food Program (CACFP), Food Distribution Program on Indian Reservations (FDPIR), Commodity Supplemental Food Program (CSFP), and The Emergency Food Assistance Program (TEFAP), other child nutrition and food distribution activities, the Farm to School program, the Supplemental Nutrition Assistance Program (SNAP), the Special Supplemental Nutrition Program for Women, Infants and Children (WIC), the WIC Farmers Market Nutrition Program (FMNP), the Senior Farmers Market Nutrition Program (SFMNP), nutrition and policy promotion, and any associated challenges in implementing programs or subsets of programs. The annual burden hours requested of 43,360 are based on the number of collections we expect to conduct annually over the requested period for this clearance.

Type of collection | Number of annual respondents | Total annual responses | Total annual burden hours
Surveys/Pulse surveys | 37,180 | 93,425 | 27,110
Focus Groups/Discussion Groups/Stakeholder Meetings/Interviews | 2,500 | 4,500 | 5,000
Administrative data collection and associated requests | 895 | 2,430 | 11,250
Total | 40,575 | 100,355 | 43,360

Annual Reporting Burden Estimates

Affected Public: Individuals and households, businesses and organizations, State, local or Tribal government.

Estimated Number of Annual Respondents: 40,575.

Estimated Number of Annual Responses per Respondent: Ranges from 1 response to 10 responses depending on category of respondent.

Estimated Annual responses: 100,355.

Estimated time per response: Ranges from 10 minutes per response to 10 hours per response depending on type of collection (that is, survey, discussion group, or administrative data collection) and the nature of the request.

Estimated Annual Burden hours: 43,360.

In summary, the total estimated annual burden is 43,360 hours and 100,355 responses. Thus, we are requesting 130,080 hours for our three year burden estimate and 301,065 total responses for the three year approval period. Current estimates are based on both historical numbers of respondents from past projects as well as estimates for projects to be conducted in the next three years.

Tameka Owens,
Assistant Administrator, Food and Nutrition Service.

[FR Doc. 2023-09709 Filed 5-5-23; 8:45 am]

BILLING CODE 3410-30-P